NATIONAL SCIENCE FOUNDATION

Advisory Committee for Integrative Activities; Notice of Meeting

In accordance with the Federal Advisory Committee Act (Pub. L. 92-463, as amended), the National Science Foundation (NSF) announces the following meeting:

Name and Committee Code: Advisory Committee for Integrative Activities (#1373).

Date and Time: August 16, 2022; 12:00 p.m.-6:00 p.m. (EDT), August 17, 2022; 1:00 p.m.-5:00 p.m. (EDT).

Place: National Science Foundation, 2415 Eisenhower Avenue, Alexandria, VA 22314/Virtual.

Type of Meeting: Closed.

Contact Person: Dr. Jonathan Friedman, Program Director, Office of Integrative Activities/Office of the Director/National Science Foundation, 2415 Eisenhower Avenue, Alexandria, VA 22314; (Email: jfriedma@nsf.gov/Telephone: (703) 292-7475).

Purpose of Meeting: An ad hoc Committee of Visitors will review the Major Research Infrastructure program's administrative processes, including examination of decisions on proposals, reviewer comments, and other relevant materials.

Agenda: Tuesday, August 16—Program Review. Wednesday, August 17—Program Review and Report Writing.

Reason for Closing: The work being reviewed and evaluated includes information of a proprietary or confidential nature, including technical information; and information on personnel. These matters are exempt under 5 U.S.C. 552b(c)(4) and (6) of the Government in the Sunshine Act.

Dated: July 19, 2022.
Crystal Robinson,
Committee Management Officer.

[FR Doc. 2022-15729 Filed 7-21-22; 8:45 am]

BILLING CODE 7555-01-P